SECURITIES AND EXCHANGE COMMISSION

[ File No. 500-1]

Order Of Suspension of Trading; In the Matter of ARX Gold Corp.

October 22, 2013.

It appears to the Securities and Exchange Commission (“Commission”) that there is a lack of current and accurate information concerning the securities of ARX Gold Corp. (“ARX Gold”), quoted under the ticker symbol DUCP, because of questions regarding the authorship of, and accuracy of information contained in, an exhibit, dated June 15, 2012 and entitled “Feasibility Study ARX Springs & ARX Pacific Properties For Mining Project Located in Wide Bay Burnett Region, Queensland, Australia,” to ARX Gold's Form 10-K filed on September 4, 2013 and an exhibit, dated May 7, 2012 and entitled “Definitive Feasibility Study on the ARX Springs and ARX Pacific Properties located in Wide Bay Burnett Region, Queensland, Australia,” to its Form 8-K filed on May 30, 2012. On October 3, 2013, ARX Gold filed an amended Form 10-K purporting “to delete an exhibit which was erroneously filed” with the 10-K filed on September 4, 2013 (emphasis added) without explicitly identifying or explaining that the Feasibility Study was the exhibit it sought to delete. ARX Gold has not amended its May 2012 Form 8-K and its October 2013 amendment to the Form 10-K does not disclaim the purported facts described in the earlier Feasibility Study filed with the Commission.

The Commission is of the opinion that the public interest and the protection of investors require a suspension of trading in the securities of the above-listed company.

Therefore, it is ordered, pursuant to Section 12(k) of the Securities Exchange Act of 1934, that trading in the securities of the above-listed company is suspended for the period from 9:30 a.m. EDT on October 22, 2013, through 11:59 p.m. EST on November 4, 2013.

By the Commission.
Elizabeth M. Murphy,
Secretary.

[FR Doc. 2013-25143 Filed 10-22-13; 4:15 pm]

BILLING CODE 8011-01-P